DEPARTMENT OF HOMELAND SECURITY

U.S. Citizenship and Immigration Services

[OMB Control Number 1615-0008]

Agency Information Collection Activities; Revision of a Currently Approved Collection: Biographic Information (for Deferred Action)

Correction

In Notice document, 2025-09616, appearing on pages 22752 through 22753, in the issue of Thursday, May 29, 2025, make the following correction:

On page 22752, in the second column, in the DATES section, on the second and third lines, “June 30, 2025” should read “July 28, 2025”.

[FR Doc. C1-2025-09616 Filed 6-3-25; 11:15 am]

BILLING CODE 0099-10-D